DEPARTMENT OF COMMERCE

National Oceanic and Atmospheric Administration

[RTID 0648-XY069]

Fisheries of the Exclusive Economic Zone Off Alaska; Alaska Groundfish and Halibut Seabird Working Group; Public Meeting

AGENCY: National Marine Fisheries Service (NMFS), National Oceanic and Atmospheric Administration (NOAA), Commerce.

ACTION: Notice of public meeting.

SUMMARY: NMFS Alaska Groundfish and Halibut Seabird Working Group will meet to discuss vessel-specific seabird bycatch mortality, electronic monitoring seabird species identification work, and an update on new studies examining seabird bycatch in the trawl fisheries.

DATES: The meeting will be held on March 11, 2020, from 1 p.m. to 5 p.m., and on March 12, 2020, from 9 a.m. to 4 p.m., Alaska Daylight Time.

ADDRESSES: The meeting will be held at the NMFS Alaska Regional Office located at 709 W 9th St., Room 445C, Juneau, AK. Photo identification is required to enter this facility.

FOR FURTHER INFORMATION CONTACT: Joseph Krieger, 907-586-7650.

SUPPLEMENTARY INFORMATION: The Alaska Groundfish and Halibut Seabird Working Group formed as a result of the 2015 biological opinion on effects of the Gulf of Alaska and Bering Sea/Aleutian Islands groundfish fisheries on short-tailed albatross. The working group is tasked with reviewing information for mitigating effects of the groundfish fisheries on short-tailed albatross and other seabirds. The workgroup will hold an in-person meeting in Juneau, Alaska on March 11 and 12, 2020. Meeting topics include vessel-specific seabird bycatch mortality and proposed work on vessel-specific seabird bycatch reduction; electronic monitoring seabird species identification work; and an update on new studies examining seabird bycatch in the trawl fisheries.

NMFS will keep the Council apprised of the working group's activities and any resulting recommendations for methods to reduce seabird bycatch. Any changes to seabird avoidance regulations are expected to follow the standard Council process.

Special Accommodations

This workshop will be physically accessible to people with disabilities. Requests for sign language interpretation or other auxiliary aids should be directed to Joseph Krieger, 907-586-7650, at least 5 working days prior to the meeting date.

Dated: January 29, 2020.
Jennifer M. Wallace,
Acting Director, Office of Sustainable Fisheries, National Marine Fisheries Service.

[FR Doc. 2020-02012 Filed 1-31-20; 8:45 am]

BILLING CODE 3510-22-P